DEPARTMENT OF HEALTH AND HUMAN SERVICES

Centers for Disease Control and Prevention

[30Day-11-0621]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

National Youth Tobacco Surveys (NYTS) 2012-2014—Revision (Exp Date: 1/31/2012)—National Center for Chronic Disease Prevention and Health Promotion (NCCDPHP), Centers for Disease Control and Prevention (CDC).

Background and Brief Description

The Centers for Disease Control and Prevention (CDC) has periodically collected information about tobacco use among adolescents since 2004 (National Youth Tobacco Survey (NYTS) 2004, 2006, 2009, 2011, OMB No. 0920-0621, exp. 12/31/2011). At present, the NYTS is the most comprehensive source of nationally representative tobacco data among students in grades 9-12, and the only source of such data for students in grades 6-8. The NYTS has provided national estimates of tobacco use behaviors, information about exposure to pro- and anti-tobacco influences, and information about racial and ethnic disparities in tobacco-related topics. Information collected through the NYTS is used to identify trends over time, to inform the development of tobacco cessation programs for youth, and to evaluate the effectiveness of existing interventions and programs.

CDC is requesting OMB approval to conduct additional cycles of the NYTS in the spring of 2012, 2013, and 2014. The survey will be conducted among nationally representative samples of students attending public and private schools in grades 6-12, and will be administered to students as an optically scannable, eight-page booklet of multiple-choice questions. Information supporting the NYTS also will be collected from state-, district-, and school-level administrators and teachers. During the 2012-2014 timeframe, a number of changes will be incorporated that reflect CDC's ongoing collaboration with FDA and the need to measure progress toward meeting strategic goals established by the Family Smoking Prevention and Tobacco Control Act. Information collection will occur annually and will include a number of new questions, as well as increased representation of minority youth.

Results of the NYTS will continue to be used for public health program planning and evaluation. Information collected through the NYTS is also expected to provide multiple measures and data for monitoring progress on six of the 20 tobacco-related objectives for Healthy People 2020.

OMB approval is requested for three years. The estimated average burden per response is 45 minutes, and the total estimated annualized burden hours are 18,862. There are no costs to respondents other than their time.

Estimated Annualized Burden Hours

Type of respondent | Form name | No. of respondents | No. of responses per respondent | Average burden per response (in hr)
State Administrators | State-level Recruitment Script for the NYTS | 35 | 1 | 30/60
District Administrators | District-level Recruitment Script for the NYTS | 150 | 1 | 30/60
School Administrators | School-level Recruitment Script for the NYTS | 244 | 1 | 30/60
Teachers | Data Collection Checklist | 816 | 1 | 15/60
Students | National Youth Tobacco Survey | 24,591 | 1 | 45/60

Dated: September 13, 2011.
Daniel Holcomb,
Reports Clearance Officer, Centers for Disease Control and Prevention.

[FR Doc. 2011-24186 Filed 9-20-11; 8:45 am]

BILLING CODE 4163-18-P